DEPARTMENT OF THE INTERIOR

National Park Service

Notice of Intent To Prepare a Draft Environmental Impact Statement (EIS) on the Special Resource Study for Castle Nugent Farms, St. Croix, U.S. Virgin Islands

AGENCY: National Park Service, Interior.

ACTION: Notice of Intent to prepare a Draft Environmental Impact Statement (EIS) on the Special Resource Study for Castle Nugent Farms, St. Croix, U.S. Virgin Islands.

SUMMARY: Pursuant to section 102(2)(C) of the National Environmental Policy Act of 1969, and National Park Service (NPS) policy in Director's Order 2 (Park Planning) and Director's Order 12 (Conservation Planning, Environmental Impact Analysis, and Decision-making), the NPS will prepare an EIS for the Special Resource Study (SRS) for Castle Nugent Farms.

The NPS will conduct local public meetings to receive input from interested parties on issues, concerns and suggestions believed to be relevant to the future of Castle Nugent Farms and its potential inclusion as a unit of the National Park System. Of particular interest to the NPS are suggestions and ideas for managing cultural and natural resources, interpretation, and the visitor experience at Castle Nugent Farms. The Draft EIS will formulate and evaluate environmental impacts associated with various types and levels of visitor use and resources management at the site.

DATES: The dates and times of the public scoping meetings will be published in local newspapers and on the internet at http://parkplanning.nps.gov. These dates and times may also be obtained by contacting the NPS Southeast Regional Office, Division of Planning and Compliance. Scoping suggestions will be accepted throughout the planning process. The NPS anticipates that the Draft EIS will be available for public review by January 2009.

ADDRESSES: The locations of the public scoping meetings will be published in local newspapers and on the internet at http://parkplanning.nps.gov.

Suggestions and ideas should be submitted in writing to the following address: John Barrett, Planning Team Leader, Castle Nugent Farms Special Resource Study, NPS Southeast Regional Office, Division of Planning and Compliance, 100 Alabama Street, SW., 6th Floor, 1924 Building, Atlanta, Georgia 30303.

FOR FURTHER INFORMATION CONTACT: John Barrett, Planning Team Leader, Castle Nugent Farms Special Resource Study, 404-562-3124, extension 637.

SUPPLEMENTARY INFORMATION: Castle Nugent Farms consists of approximately 1,400 acres on the southeastern shore of St. Croix. The rolling terrain consists of a mixture of dry forest, native vegetation, and rangeland that slopes down from an elevation of 750 feet to the sea. The property has a long and diverse history of farming dating back to the 1730s when it was first established as a cotton and sugar plantation. In the 19th century, N'Dama cattle breeding was brought to Castle Nugent Farms. This breed was a prominent part of the farm's operations until the 1950s, when attention shifted towards raising an N'Dama cross breed of cattle known as Senepol. Today, Senepol cattle are still bred under an agreement between the property's owners and the University of the Virgin Islands. Issues currently being considered for the SRS/EIS include a determination of Castle Nugent Farm's national significance and an assessment of the site's suitability and feasibility as a potential addition to the National Park System. The Draft EIS will identify cultural and natural resources of Castle Nugent Farms and evaluate a range of potential management options that might adequately protect these resources and provide for public use and enjoyment.

Our practice is to make comments, including names, home addresses, home phone numbers, and e-mail addresses of respondents, available for public review. Before including your address, phone number, e-mail address, or other personal identifying information in your comment, you should be aware that your entire comment—including your personal identifying information—may be made publicly available at any time. While you can ask us in your comment to withhold your personal identifying information from public review, we cannot guarantee that we will be able to do so. We will always make submissions from organizations or businesses, and from individuals identifying themselves as representatives or officials of organizations or businesses, available for public inspection in their entirety.

Authority: The authority for publishing this notice is contained in 40 CFR 1506.6.

The responsible official for this EIS is Art Frederick, Acting Regional Director, Southeast Region, National Park Service, 100 Alabama Street, SW., 1924 Building, Atlanta, Georgia 30303.

Dated: September 19, 2007.
Art Frederick,
Acting Regional Director, Southeast Region.

[FR Doc. E7-22723 Filed 11-20-07; 8:45 am]

BILLING CODE 4312-53-P